DEPARTMENT OF HOUSING AND URBAN DEVELOPMENT

[Docket No. FR-4739-N-20]

Notice of Proposed Information Collection: Comment Request; Multifamily Financial Management Template

AGENCY: Office of the Assistant Secretary for Housing-Federal Housing Commission, HUD.

ACTION: Notice.

SUMMARY: The proposed information collection requirement described below will be submitted to the Office of Management and Budget (OMB) for review, as required by the Paperwork Reduction Act. The Department is soliciting public comments on the subject proposal.

DATES: Comments Due Date: August 30, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410.

FOR FURTHER INFORMATION CONTACT: Beverly J. Miller, Director, Office of Asset Management, Department of Housing and Urban Development, 451 7th Street SW., Washington, DC 20410, telephone (202) 708-3730 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Financial Management Template.

OMB Control Number, if applicable: 2502-New (formerly 2535-0107).

Description of the need for the information and proposed use: The Uniform Financial Reporting Standards (UFRS) for HUD Housing Programs requires HUD multifamily housing program participants to submit financial data electronically, using General Accepted Accounting Principles (GAAP), in a prescribed format. Electronic submission of this data requires the use of a template. The Multifamily Financial Management template includes updates that increase the efficiency of the data collection and reduces the burden hours for the respondents. HUD will continue to use the financial information collected from multifamily property owners to evaluate their financial condition. Requiring multifamily property owners to report electronically has enabled HUD to provide a more comprehensive financial assessment of the multifamily property owners receiving Federal funds.

Agency form numbers, if applicable: None.

Estimated of the total number of hours needed to prepare the information collection including number of respondents, frequency of response, and hours off response: The estimated total number of annual hours needed to prepare the information collection is 53,784; the number of respondents is 20,774 generating 20,774 annual responses; the frequency of response is annually; and the number of hours per response is approximately 2.50 hours.

Status of the proposed information collection: Revision of a currently approved collection. (This collection was transferred from the Real Estate Assessment Center to the Assistant Secretary for Housing-Federal Housing Commission.)

Authority: The Paperwork Reduction Act of 1995, 44 U.S.C., Chapter 35, as amended.

Dated: June 25, 2002.
John C. Weicher,
Assistant Secretary for Housing-Federal Housing Commissioner.

[FR Doc. 02-16518 Filed 6-28-02; 8:45 am]

BILLING CODE 4210-27-M